POSTAL RATE COMMISSION

Briefing on Declining Block Rate Model

AGENCY: Postal Rate Commission.

ACTION: Notice of briefing.

SUMMARY: Commission advisory staff will present a public briefing on a model for designing declining block rates in certain negotiated service agreements. The briefing will be held on May 5, 2006 beginning at 10 a.m. in the Commission's hearing room. It will be followed by a question-and-answer session. A Commission notice issued April 21, 2006 provides additional details, and is posted at http://www.prc.gov.

DATES: May 5, 2006.

ADDRESSES: Postal Rate Commission, 901 New York Ave., NW., Suite 200, Washington, DC 20268-0001.

FOR FURTHER INFORMATION CONTACT: Stephen L. Sharfman, General Counsel, 202-789-6820.

Dated: April 24, 2006.
Steven W. Williams,
Secretary.

[FR Doc. 06-3993 Filed 4-26-06; 8:45 am]

BILLING CODE 7710-FW-M